INTERNATIONAL TRADE COMMISSION

[Investigation Nos. 701-TA-521 and 731-TA-1252-1255 and 1257 (Final)]

Certain Steel Nails From Korea, Malaysia, Oman, Taiwan, and Vietnam

Determinations

On the basis of the record ¹ developed in the subject investigations, the United States International Trade Commission (“Commission”) determines, pursuant to the Tariff Act of 1930 (“the Act”), that an industry in the United States is materially injured by reason of imports of certain steel nails from Korea, Malaysia, Oman, Taiwan, and Vietnam, provided for in subheadings 7317.00.55, 7317.00.65 and 7317.00.75 of the Harmonized Tariff Schedule of the United States, that have been found by the Department of Commerce to be sold in the United States at less than fair value (“LTFV”), and by reason of imports from Vietnam that have been found by Commerce to be subsidized by the government of Vietnam. 2 3

¹ The record is defined in section 207.2(f) of the Commission's Rules of Practice and Procedure (19 CFR 207.2(f)).

² Chairman Meredith M. Broadbent dissenting.

³ Commissioner F. Scott Kieff did not participate in these investigations.

Background

The Commission, pursuant to sections 705(b) and 735(b) of the Tariff Act of 1930 (19 U.S.C. 1671d(b)) and (19 U.S.C. 1673d(b)), instituted these investigations effective May 29, 2014, following receipt of a petition filed with the Commission and Commerce by Mid Continent Nail Corporation (Poplar Bluff, MO). The Commission scheduled the final phase of the investigations after Commerce published preliminary determinations that imports of certain steel nails from Korea, Malaysia, Oman, Taiwan, and Vietnam were dumped within the meaning of 733(b) of the Act (19 U.S.C. 1673b(b)) and that imports of certain steel nails from Vietnam were subsidized within the meaning of section 703(b) of the Act (19 U.S.C. 1671b(b)). Notice of the scheduling of the final phase of the Commission's investigations and of a public hearing to be held in connection therewith was given by posting copies of the notice in the Office of the Secretary, U.S. International Trade Commission, Washington, DC, and by publishing the notice in the Federal Register on December 29, 2014 (80 FR 3622, January 23, 2015). The hearing was held in Washington, DC, on May 14, 2015, and all persons who requested the opportunity were permitted to appear in person or by counsel.

The Commission made these determinations pursuant to sections 705(b) and 735(b) of the Tariff Act of 1930 (19 U.S.C. 1671d(b)) and (19 U.S.C. 1673d(b)). It completed and filed its determinations in these investigations on July 6, 2015. The views of the Commission will be contained in USITC Publication 4541 (July 2015), entitled Certain Steel Nails from Korea, Malaysia, Oman, Taiwan, and Vietnam: Investigation Nos. 701-TA-521 and 731-TA-1252-1255 and 1257 (Final).

By order of the Commission.
Issued: July 6, 2015.
Lisa R. Barton,
Secretary to the Commission.

[FR Doc. 2015-16878 Filed 7-9-15; 8:45 am]

BILLING CODE 7020-02-P